DEPARTMENT OF AGRICULTURE

Forest Service

National Urban and Community Forestry Advisory Council

AGENCY: Forest Service, Agriculture (USDA).

ACTION: Notice of meeting.

SUMMARY: The National Urban and Community Forestry Advisory Council will hold a public meeting according to the details shown below. The Council is authorized under the Cooperative Forestry Assistance Act (the Act) and operates in compliance with the Federal Advisory Committee Act (FACA). The purpose of the Council is to develop a national urban and community forestry ten-year action plan, evaluate and report annually on the implementation of that plan to the Secretary, and develop criteria for and submit recommendations to the Forest Service's National Urban and Community Forestry Challenge Cost-share Grant Program.

DATES: An in-person and virtual meeting will be held on February 28, 2024, 9 a.m.-5 p.m., Mountain Standard Time (MST) and February 29, 2024, 8:30 a.m.-1 p.m. MST.

Written and Oral Comments: Anyone wishing to provide in-person and/or virtual oral comments must pre-register by 11:59 p.m. MST on February 21, 2024. Written public comments will be accepted up to 11:59 p.m. MST on February 21, 2024. Comments submitted after this date will be provided to the Forest Service, but the Council may not have adequate time to consider those comments prior to the meeting.

All Council meetings are subject to cancellation. For status of the meetings prior to attendance, please contact the person listed under FOR FURTHER INFORMATION CONTACT.

ADDRESSES: The meetings will be held in person and virtually at the Valle de Oro National Wildlife Refuge located at 7851 Second Street Southwest, Albuquerque, New Mexico 87105. Council information and meeting details can be found at the following website: https://www.fs.usda.gov/managing-land/urban-forests/ucf or by contacting the person listed under FOR FURTHER INFORMATION CONTACT.

Written Comments: Written comments must be sent by email to nancy.stremple@usda.gov or via mail (i.e., postmarked) to Nancy Stremple, 201 Fourteenth Street, South West, Sidney Yates Building 3SC-01B, Washington, DC 20024. The Forest Service strongly prefers comments be submitted electronically.

Oral Comments: Persons or organizations wishing to make oral comments must pre-register by 11:59 p.m. MST February 21, 2024, and speakers can only register for one speaking slot. Oral comments must be sent by email to nancy.stremple@usda.gov or via mail (i.e., postmarked) to Nancy Stremple, 201 Fourteenth Street, South West, Sidney Yates Building 3SC-01B, Washington, DC 20024.

FOR FURTHER INFORMATION CONTACT: Nancy Stremple, Designated Federal Officer (DFO), by email at nancy.stremple@usda.gov.

SUPPLEMENTARY INFORMATION: The purpose of the meeting is to:

1. Introduce National Urban and Community Forestry Council members;

2. Present about Valle de Oro National Urban Wildlife Refuge and community engagement;

3. Discuss National Ten Year Action Plan, its Five Year Benchmark, Accomplishment Report, and process in Preparation for the Next Ten Year Action Plan (2027-2037);

4. Receive Presentation on Extreme Heat and site tour Thursday;

5. Schedule future meetings; and

6. Other Council related items.

The agenda will include time for individuals to make oral statements of three minutes or less. Individuals wishing to make an oral statement should make a request in writing at least three days prior to the meeting date to be scheduled on the agenda. Written comments may be submitted to the Forest Service up to 5 days after the meeting date listed under DATES.

Please contact the person listed under FOR FURTHER INFORMATION CONTACT, by or before the deadline, for all questions related to the meeting. All comments, including names and addresses when provided, are placed in the record and are available for public inspection and copying. The public may inspect comments received upon request.

Meeting Accommodations: The meeting location is compliant with the Americans with Disabilities Act, and the USDA provides reasonable accommodation to individuals with disabilities where appropriate. If you are a person requiring reasonable accommodation, please make requests in advance for sign language interpretation, assistive listening devices, or other reasonable accommodation to the person listed under the FOR FURTHER INFORMATION CONTACT section or contact USDA's TARGET Center at (202) 720-2600 (voice and TTY) or USDA through the Federal Relay Service at (800) 877-8339. Additionally, program information may be made available in languages other than English.

USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Equal opportunity practices in accordance with USDA's policies will be followed in all appointments to the Council. To ensure that the recommendations of the Council have considered the needs of the diverse groups served by USDA, membership shall include to the extent possible individuals with demonstrated ability to represent minorities, women, and persons with disabilities. USDA is an equal opportunity provider, employer, and lender.

Dated: January 23, 2024.
Cikena Reid,
USDA Committee Management Officer.

[FR Doc. 2024-01614 Filed 1-26-24; 8:45 am]

BILLING CODE 3411-15-P